DEPARTMENT OF COMMERCE

National Oceanic and Atmospheric Administration

[Docket No. 070809457-7458-01]

Amendment to Final Guidelines for the Coastal and Estuarine Land Conservation Program

AGENCY: National Ocean Service (NOS), National Oceanic and Atmospheric Administration (NOAA), Department of Commerce.

ACTION: Notice; amendment to final guidelines.

SUMMARY: The National Oceanic and Atmospheric Administration, National Ocean Service publishes this notice to amend the Final Guidelines for the Coastal and Estuarine Land Conservation Program (CELCP). For those grants issued in fiscal years 2002 and 2004 only, and that have one or more project proposals submitted to NOAA, but not approved, as of August 17, 2007, the CELCP may extend the financial assistance award period. For grants issued in fiscal year 2002, they may be extended for up to 3 additional months, providing for a potential maximum award duration of five years and three months. For grants issued in fiscal year 2004, they may be extended for up to one additional year, providing for a potential maximum award duration of four years. This extension is intended solely to give the CELCP sufficient time to review and make a determination on the documentation supporting the project proposals that it has received but does not have time to complete before the awards' currently scheduled end date of September 30, 2007.

FOR FURTHER INFORMATION CONTACT: For further information, contact: Elisabeth Morgan, 301-713-3155 X166, elisabeth.morgan@noaa.gov.

SUPPLEMENTARY INFORMATION: The Coastal and Estuarine Land Conservation Program was established pursuant to Public Law 107-77 for the purpose of protecting important coastal and estuarine areas that have significant conservation, recreation, ecological, historical, or aesthetic values, or that are threatened by conversion from their natural or recreational state to other uses. The Final Guidelines for CELCP were published in the Federal Register on June 17, 2003 (68 FR 35860). The Final Guidelines stated that the standard financial assistance award period is 18 months, and could be extended an additional 18 months if circumstances warrant, but may not exceed 3 years. In the case of FY2002 awards, NOAA was directed by Congress in FY2005 to provide an additional two years beyond that provided for by the CELCP Guidelines. The CELCP has received review packages for numerous land acquisition projects very late in the performance period from awards funded in 2002 and 2004 that are still open, for which there may not be sufficient time to complete review before the awards' currently scheduled end date of September 30, 2007. For this reason, CELCP is amending the Final Guidelines for the Coastal and Estuarine Land Conservation Program to allow the financial assistance award period for awards issued in fiscal years 2002 and 2004 that have project documentation currently pending with NOAA to be extended for up to an additional year. It is not intended to give grant recipients more time to submit additional proposals. The maximum potential award duration for 2002 grants is five years and three months, ending December 31, 2007, and for 2004 it is four years, ending on September 30, 2008.

Classification

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Steve Kozak,
Chief of Staff for Ocean Services and Coastal Zone Management.

[FR Doc. 07-4050 Filed 8-16-07; 8:45 am]

BILLING CODE 3510-22-M